ENVIRONMENTAL PROTECTION AGENCY

[OPPT-2005-0009; FRL-7701-1]

TSCA Section 5(a)(2) Significant New Use Rules for Existing Chemicals; Request for Comment on Renewal of Information Collection Activities

Correction

In notice document 05-5616 beginning on page 14674 in the issue of Wednesday, March 23, 2005, make the following correction:

On page 14674, in the third column, under the DATES heading, in the fourth line, “June 21, 2005” should read “May 23, 2005.”

[FR Doc. C5-5616 Filed 4-8-05; 8:45 am]

BILLING CODE 1505-01-D

DEPARTMENT OF TRANSPORTATION

Federal Aviation Administration

14 CFR Part 39

[Docket No. FAA-2005-20514; Directorate Identifier 2005-CE-08-AD; Amendment 39-14025; AD 2005-07-01]

RIN 2120-AA64

Airworthiness Directives; The Cessna Aircraft Company Models C208 and C208B Airplanes

Correction

In rule document 05-5915 beginning on page 15223 in the issue of Friday, March 25, 2005, make the following correction:

§ 39.13 [Corrected]

On page 15226, in §39.13(e), in the table, under the heading “Affected airplanes”, in the fifth entry, in the second line, “PT6A-114A” should read “PT6A-114”.

[FR Doc. C5-5915 Filed 4-8-05; 8:45 am]

BILLING CODE 1505-01-D